DEPARTMENT OF HOMELAND SECURITY

U.S. Citizenship and Immigration Services

[CIS No. 2729-22; DHS Docket No. USCIS-2015-0005]

RIN 1615-ZB76

Extension and Redesignation of Yemen for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Yemen for Temporary Protected Status (TPS) for 18 months, beginning on March 4, 2023, through September 3, 2024. This extension allows existing TPS beneficiaries to retain TPS through September 3, 2024, so long as they otherwise continue to meet the eligibility requirements for TPS. Existing TPS beneficiaries who wish to extend their status through September 3, 2024, must re-register during the 60-day re-registration period described in this notice. The Secretary is also redesignating Yemen for TPS. The redesignation of Yemen allows additional Yemeni nationals (and individuals having no nationality who last habitually resided in Yemen) who have been continuously residing in the United States since December 29, 2022 to apply for TPS for the first time during the initial registration period described under the redesignation information in this notice. In addition to demonstrating continuous residence in the United States since December 29, 2022 and meeting other eligibility criteria, initial applicants for TPS under this designation must demonstrate that they have been continuously physically present in the United States since March 4, 2023, the effective date of this redesignation of Yemen for TPS.

DATES:

Extension of Designation of Yemen for TPS: The 18-month designation of Yemen for TPS begins on March 4, 2023, and will remain in effect for 18 months, through September 3, 2024. The extension impacts existing beneficiaries of TPS.

Re-registration: The 60-day re-registration period for existing beneficiaries runs from January 3, 2023 through March 6, 2023. (Note: It is important for re-registrants to timely re-register during the registration period and not to wait until their Employment Authorization Documents (EADs) expire, as delaying reregistration could result in gaps in their employment authorization documentation.)

Redesignation of Yemen for TPS: The 18-month redesignation of Yemen for TPS begins on March 4, 2023, and will remain in effect for 18 months, through September 3, 2024. The redesignation impacts potential first-time applicants and others who do not currently have TPS.

First-time Registration: The initial registration period for new applicants under the Yemen TPS redesignation begins on January 3, 2023 and will remain in effect through September 3, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at https://www.uscis.gov/tps. You can find specific information about Yemen's TPS designation by selecting “Yemen” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at https://www.uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Yemen (or individuals having no nationality who last habitually resided in Yemen) to (1) re-register for TPS and to apply for renewal of their EADs with USCIS or (2) submit an initial registration application under the redesignation and apply for an EAD.

Re-registration is limited to individuals who have previously registered for TPS under the prior designation of Yemen and whose applications have been granted. Failure to re-register properly within the 60-day re-registration period may result in the withdrawal of your TPS following appropriate procedures. See 8 CFR 244.14.

For individuals who have already been granted TPS under Yemen's designation, the 60-day re-registration period runs from January 3, 2023 through March 6, 2023. USCIS will issue new EADs with a September 3, 2024 expiration date to eligible Yemeni TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Yemen through March 3, 2024. Therefore, as proof of continued employment authorization through March 3, 2024, TPS beneficiaries can show their EADs that have the notation A-12 or C-19 under Category and a “Card Expires” date of March 3, 2023, or September 3, 2021. This notice explains how TPS beneficiaries and their employers may determine which EADs are automatically extended and how this affects the Form I-9, Employment Eligibility Verification, E-Verify, and USCIS Systematic Alien Verification for Entitlements (SAVE) processes.

Individuals who have a Yemen TPS application (Form I-821) and/or Application for Employment Authorization (Form I-765) that was still pending as of January 3, 2023 do not need to file either application again. If USCIS approves an individual's pending Form I-821, USCIS will grant the individual TPS through September 3, 2024. Similarly, if USCIS approves a pending TPS-related Form I-765, USCIS will issue the individual a new EAD that will be valid through the same date.

Under the redesignation, individuals who currently do not have TPS may submit an initial application during the initial registration period that runs from January 3, 2023 through the full length of the redesignation period, ending September 3, 2024.¹ In addition to demonstrating continuous residence in the United States since December 29, 2022 and meeting other eligibility criteria, initial applicants for TPS under this redesignation must demonstrate that they have been continuously physically present in the United States since March 4, 2023,² the effective date of this redesignation of Yemen, before USCIS may grant them TPS. DHS estimates that approximately 1,200 individuals may become newly eligible for TPS under the redesignation of Yemen.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has exercised his discretion to provide for TPS initial registration periods that coincide with the full period of a TPS country's initial designation or redesignation. See, e.g., 86 FR 41863 (Aug. 3, 2021) (providing 18-mos. registration period under new TPS designation of Haiti); 86 FR 41986 (Aug. 4, 2021) (“Extension of Initial Registration Periods for New Temporary Protected Status Applicants Under the Designations for Venezuela, Syria and Burma). For the same reasons, the Secretary is similarly exercising his discretion to provide applicants under this TPS designation of Yemen with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA sec. 244(b)(2)(A) (effective date of designation); 244(c)(1)(A)(i-ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA sec. 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Yemen designated for TPS?

Yemen was initially designated for TPS on September 3, 2015, based on ongoing armed conflict that prevented nationals of Yemen from returning to Yemen in safety. See Designation of Republic of Yemen for Temporary Protected Status, 80 FR 53319 (Sept. 3, 2015). In January 2017, Yemen's designation was extended for 18 months through September 3, 2018, and Yemen was redesignated for TPS on the dual bases of ongoing armed conflict and extraordinary and temporary conditions. See Extension and Redesignation of Republic of Yemen for Temporary Protected Status, 82 FR 859 (Jan. 4, 2017). The Secretary extended Yemen's TPS designation in 2018 and 2020 because the statutory bases of ongoing armed conflict and extraordinary and temporary conditions persisted. See Extension of the Designation of Yemen for Temporary Protected Status, 83 FR 40307 (Aug. 14, 2018); see also Extension of the Designation of Yemen for Temporary Protected Status, 85 FR 12313 (Mar. 2, 2020). Most recently, the Secretary extended and redesignated Yemen for TPS based on ongoing armed conflict and extraordinary and temporary conditions in 2021. See Extension and Redesignation of Yemen for Temporary Protected Status, 86 FR 36295 (July 9, 2021).

What authority does the Secretary have to extend the designation Yemen for TPS?

Section 244(b)(1) of the INA, 8 U.S.C. 1254a(b)(1), authorizes the Secretary, after consultation with appropriate agencies of the U.S. Government, to designate a foreign state (or part thereof) for TPS if the Secretary determines that certain country conditions exist.³ The decision to designate any foreign state (or part thereof) is a discretionary decision, and there is no judicial review of any determination with respect to the designation, termination, or extension of a designation. See INA sec. 244(b)(5)(A); 8 U.S.C. 1254a(b)(5)(A).⁴ The Secretary, in his or her discretion, may then grant TPS to eligible nationals of that foreign state (or individuals having no nationality who last habitually resided in the designated foreign state). See INA sec. 244(a)(1)(A), 8 U.S.C. 1254a(a)(1)(A).

³ INA sec. 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

⁴ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Yemen for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).⁵

⁵ The extension and redesignation of TPS for Yemen is one of several instances in which the Secretary and, prior to the establishment of DHS, the Attorney General, have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Yemen shall be December 29, 2022. Initial applicants for TPS under this redesignation must also show they have been “continuously physically present” in the United States since March 4, 2023, which is the effective date of the Secretary's redesignation, of Yemen. See INA sec. 244(c)(1)(A)(i), 8 U.S.C. 1254a(c)(1)(A)(i). For each initial TPS application filed under the redesignation, the final determination of whether the applicant has met the “continuous physical presence” requirement cannot be made until March 4, 2023, the effective date of this redesignation for Yemen. However, during the registration period and upon filing of the initial TPS application, USCIS will issue employment authorization documentation if the TPS applicant established prima facie eligibility for TPS. See 8 CFR 244.5(b).

Why is the Secretary extending the TPS designation for Yemen and simultaneously redesignating Yemen for TPS through September 3, 2024?

DHS has reviewed country conditions in Yemen. Based on the review, including input received from DOS and other U.S. Government agencies, the Secretary has determined that an 18-month extension is warranted because the ongoing armed conflict and extraordinary and temporary conditions supporting Yemen's TPS designation remain. The Secretary has further determined that redesignating Yemen for TPS under INA sec. 244(b)(1)(A), 8 U.S.C. 1254a(b)(1)(A) and INA sec. 244(b)(1)(C), 8 U.S.C. 1254a(b)(1)(C) is warranted. The Secretary is accordingly updating the “continuous residence” and “continuous physical presence” dates that applicants must meet to be eligible for TPS.

The ongoing armed conflict has deepened Yemen's difficult economic and humanitarian situation. It has directly affected the physical security of the civilian population, including from attacks involving artillery, missiles, mortars, rockets, and landmines.⁶ Over 4 million people have been internally displaced within Yemen, 286,000 of them in 2021 alone; ⁷ children account for half of the IDP population, approximately 2 million.⁸ Terrorist organizations operating inside of Yemen also pose a danger to civilians.⁹

⁶ World Report 2022—Yemen Events of 2021, Human Rights Watch World Report, available at: https://www.hrw.org/world-report/2022/country-chapters/yemen?gclid=EAIaIQobChMIo86n6cvx-QIVL3FvBB3bpQduEAAYASAAEgI9C_D_BwE (last visited Oct. 21, 2022).

⁷ Yemen Fact Sheet, United Nations High Commissioner for Refugees (UNHCR), June 2022, available at: https://reporting.unhcr.org/document/3030 (last visited Oct. 21, 2022).

⁸ UNICEF Yemen Humanitarian Situation Report: January—December 2021, Reliefweb, Mar. 16, 2022, available at: https://reliefweb.int/report/yemen/unicef-yemen-humanitarian-situation-report-january-december-2021-enar (last visited Oct. 21, 2022).

⁹ Yemen's Tragedy: War, Stalemate, and Suffering, Council on Foreign Relations, Oct. 21, 2022, available at: https://www.cfr.org/backgrounder/yemen-crisis (last visited Dec. 6, 2022).

The protracted conflict had carried on for years until a truce backed by the United Nations (UN) came into effect on April 2, 2022.¹⁰ During the truce period, armed confrontation decreased; however, the risk to civilians, particularly from unexploded ordinance, remained significant.¹¹ Between April and September 2022, the Armed Conflict Location & Event Data Project (ACLED) recorded an average of more than 200 reported deaths per month from organized political violence across the country.¹² Although much lower than what was recorded before the truce, this number is still alarmingly high.¹³ The truce was extended twice, once effective June 2, 2022, and once effective August 2, 2022,¹⁴ before ultimately expiring on October 2, 2022.¹⁵

¹⁰ Yemen truce renewed for another two months, UN News, Aug. 2, 2022, available at: https://news.un.org/en/story/2022/08/1123832 (last visited Aug. 22, 2022).

¹¹ Save the Children, Yemen: Explosive remnants of war the biggest killer of children since truce began, June 30, 2022, available at: https://www.savethechildren.net/news/yemen-explosive-remnants-war-biggest-killed-children-truce-began (last visited Oct. 25, 2022).

¹² Violence in Yemen During the UN-Mediated Truce: April-October 2022, Armed Conflict Location & Event Data Project (ACLED), Oct. 14, 2022, available at: https://acleddata.com/2022/10/14/violence-in-yemen-during-the-un-mediated-truce-april-october-2022/ (last visited Oct. 25, 2022).

¹³ Id.

¹⁴ Yemen truce renewed for another two months, UN News, Aug. 2, 2022, Available at: https://news.un.org/en/story/2022/08/1123832 (last visited Oct. 7, 2022).

¹⁵ Department of State, Press Release, UN Truce Expiration in Yemen, Oct. 3, 2022, available at: https://www.state.gov/un-truce-expiration-in-yemen/ (last visited Oct. 7, 2022).

Notably, the truce did not reduce the need for humanitarian aid across Yemen. The UN reports that 24.1 million people (approximately 80 percent of the population) are in need of humanitarian assistance as a result of armed conflict.¹⁶ The conflict continues to cause high levels of food insecurity, limited access to water and medical care,¹⁷ and the large-scale destruction of Yemen's infrastructure and cultural heritage.¹⁸

¹⁶ The United Nations in Yemen, available at: https://yemen.un.org/en/about/about-the-un (last visited Aug. 31, 2022).

¹⁷ Yemen's Tragedy: War, Stalemate, and Suffering, Council on Foreign Relations, Aug. 22, 2022, available at: https://www.cfr.org/backgrounder/yemen-crisis (last visited Aug. 31, 2022).

¹⁸ Heritage at Risk in Yemen, UNESCO, available at: https://en.unesco.org/galleries/heritage-risk-yemen (last visited Aug. 31, 2022).

The six months of the truce did have a positive impact on the safety and security of most civilians, with the number of civilian deaths declining by 60 percent and displacement decreasing by nearly 50 percent.¹⁹ However, political violence continued even during the truce.²⁰ The April 2022 truce terms included “a halt to all offensive . . . military operations, inside and outside of Yemen” ²¹ but there were 2,977 reported violations of the truce and 504 reported fatalities from truce violation events.²² These reported violations included 2,208 shelling/artillery/missile attacks, 374 air/drone strikes, 369 armed clashes, and 26 disrupted weapons use.²³

¹⁹ End of Yemen's truce leaves civilians afraid dark days are back, Al-Jazeera, Oct. 7, 2022, available at: https://www.aljazeera.com/news/2022/10/7/end-yemen-truce-leaves-civilians-afraid-dark-days-back (last visited Oct. 7, 2022).

²⁰ Violence in Yemen During the UN-Mediated Truce: April-October 2022, ACLED, Oct. 14, 2022, available at: https://acleddata.com/2022/10/14/violence-in-yemen-during-the-un-mediated-truce-april-october-2022/ (last visited Oct. 25, 2022).

²¹ Yemen Truce Monitor, ACLED, available at: https://acleddata.com/middle-east/yemen/yemen-truce-monitor/ (last visited Oct. 19, 2022).

²² Id.

²³ Id.

Even prior to the expiration of the truce on October 2, 2022, Explosive Remnants of War (ERWs), which consist of Unexploded Ordinances (UXOs), Improvised Explosive Devices (IEDs) and landmines, remained a significant threat to civilians in Yemen.²⁴ Despite the truce, July 2022 was the deadliest month due to ERWs in over two years.²⁵ Since April 2, 2022, ERWs have been the “biggest killers of children in Yemen” ²⁶ as a “result of families moving to previously inaccessible areas following the decrease in hostilities.” ²⁷ According to Save the Children, landmines and unexploded munition were responsible for over 75 percent of all war-related casualties among children.²⁸ DOS estimates that as of April 2021, “Houthi forces (have) laid over one million landmines and IEDs across the country.” ²⁹ According to a 2018 United Nations experts report, those mines “represent a hazard for commercial shipping and sea lines of communication that could remain for as long as six to 10 years.” ³⁰ Landmines and other explosive hazards have continued to be the main cause of civilian casualties.³¹

²⁴ Yemen: Explosive remnants of war the biggest killer of children since truce began, Save the Children, June 30, 2022, available at: https://www.savethechildren.net/news/yemen-explosive-remnants-war-biggest-killed-children-truce-began (last visited Aug. 31, 2022).

²⁵ Thematic Report: A review of how flooding can exacerbate civilian vulnerabilities to the ERW threat in Yemen, Civilian Impact Monitoring Center, Aug. 2022, available at: https://civilianimpactmonitoring.org/onewebmedia/20220826_CIMP%20Thematic%2008_Flooding%20and%20ERW.pdf (last visited Aug. 31, 2022).

²⁶ Yemen: Explosive remnants of war the biggest killer of children since truce began, Save the Children, June 30, 2022, available at: https://www.savethechildren.net/news/yemen-explosive-remnants-war-biggest-killed-children-truce-began (last visited Aug. 31, 2022).

²⁷ Id.

²⁸ Id.

²⁹ Daniel Gurley, Small Steps Have a Big Impact for Yemeni Civilians, DOS Dipnote: Military and Security, Apr. 6, 2021, available at: https://www.state.gov/dipnote-u-s-department-of-state-official-blog/small-steps-have-a-big-impact-for-yemeni-civilians/ (last visited Sept. 6, 2022).

³⁰ Land mines will be hidden killer in Yemen decades after war, AP, Dec. 24, 2018, available at: https://www.apnews.com/bce0a80324d040f09843ceb3e4e45c1e (last visited Sept. 6, 2022).

³¹ UN chief urges Yemen's warring parties to extend truce, AP, Oct. 13, 2022, available at: https://apnews.com/article/middle-east-united-nations-abu-dhabi-yemen-civil-wars-abde5c3c4247328a8d38f6d65ad85231 (last visited Nov. 17, 2022).

The UN considers the humanitarian crisis in Yemen to be the largest in the world.³² As of April 2022, “19.7 million people lack access to basic health services. Only 51 percent of the health facilities in Yemen are fully functioning and of those, most lack operational specialists, equipment, and basic medicines.” ³³ As of September 2021, “over 80% of the population face[d] significant challenges in reaching food, drinking water and access to health care services. Shortages of human resources, equipment, and supplies are severely hindering healthcare provision.” ³⁴ The lack of specialists has been an increasing problem; as of March 2022, fewer than 2,000 medical specialists were left in all of Yemen.³⁵ Healthcare for mothers and their babies in Yemen is categorized by the UN as “highly vulnerable;” according to the World Bank, approximately one woman and six newborns in Yemen die every two hours due to complications during pregnancy or childbirth.³⁶

³² The United Nations in Yemen, available at: https://yemen.un.org/en/about/about-the-un (last visited Aug. 31, 2022).

³³ Yemen Health Factsheet, USAID, Apr. 25, 2022, available at: https://www.usaid.gov/yemen/fact-sheets/health-fact-sheet (last visited Oct. 21, 2022).

³⁴ Health Care Sector in Yemen—Policy Note, World Bank, Sept. 14, 2021, available at https://www.worldbank.org/en/country/yemen/publication/health-sector-in-yemen-policy-note (last visited Sept. 1, 2022).

³⁵ Yemen's hospitals in crisis as doctors flee country, Middle East Eye, Mar. 29, 2022, available at: https://www.middleeasteye.net/news/yemens-hospitals-crisis-doctors-flee-country (last visited Sept. 1, 2022).

³⁶ Health Care Sector in Yemen—Policy Note, World Bank, Sept. 14, 2021, available at https://www.worldbank.org/en/country/yemen/publication/health-sector-in-yemen-policy-note (last visited Sept. 1, 2022).

Historically, Yemen has relied on imported foodstuffs.³⁷ Yemen imports 90 percent of its basic food needs.³⁸ The World Food Programme (WFP) estimated that 19 million Yemenis (or more than 60 percent of the population) would be food insecure over the second half of 2022,³⁹ and 1.6 million people in Yemen “[were] expected to fall into emergency levels of hunger, taking the total to 7.3 million people by the end of the year.” ⁴⁰ Currently, 2.2 million children (approximately half of Yemeni children under age five) are under threat of acute malnutrition.⁴¹ The United Nations High Commissioner for Refugees (UNHCR) has stated that Yemen is on the brink of famine, and IDPs are “four times more likely to go hungry than the rest of the population.” ⁴²

³⁷ Missiles and Food: Yemen's man-made food security crisis, Oxfam, Dec. 2017, available at: https://reliefweb.int/sites/reliefweb.int/files/resources/bn-missiles-food-security-yemen-201217-en.pdf (last visited Sept. 6, 2022).

³⁸ Democratizing Development in Yemen: Beyond Food Aid, Wilson Center, Aug. 8, 2022, available at: https://www.wilsoncenter.org/article/democratizing-development-yemen-beyond-food-aid (last visited Nov. 17, 2022).

³⁹ Yemen—World Food Programme, June 2022, available at: https://docs.wfp.org/api/documents/WFP-0000141295/download/ (last visited Oct. 21, 2022).

⁴⁰ Brutal War on Yemen: Dire Hunger Crisis Teetering on the Edge of Catastrophe, IPS, Mar. 18, 2022, available at: https://www.ipsnews.net/2022/03/brutal-war-yemen-dire-hunger-crisis-teetering-edge-catastrophe/?utm_source=rss&utm_medium=rss&utm_campaign=brutal-war-yemen-dire-hunger-crisis-teetering-edge-catastrophe (last visited Oct. 21, 2022).

⁴¹ Yemen—World Food Programme, June 2022, available at: https://docs.wfp.org/api/documents/WFP-0000141295/download/ (last visited Sept. 2, 2022).

⁴² Get to know Fattoum, a displaced Yemeni mother who struggles to take care of her orphaned children, UNHCR, Apr. 22, 2022, available at: https://zakat.unhcr.org/blog/en/beneficiaries/fattoum (last visited Oct. 21, 2022).

The World Bank reported that as of April 14, 2022, “[e]conomic conditions continue to deteriorate, and the acute humanitarian crisis persists.” ⁴³ Official statistics about the status of Yemen's economy are scarce, and there is limited reliable economic information.⁴⁴ Available data indicates an economy that continues to weaken.⁴⁵ The ongoing armed conflict has damaged civilian infrastructure, including houses, hospitals, agricultural infrastructure, energy infrastructure, roads, bridges and water systems.⁴⁶ Yemen is highly dependent on imports,⁴⁷ and the conflict in Ukraine has negatively impacted the ability of Yemenis to import key commodities.⁴⁸

⁴³ Republic of Yemen, World Bank Economic Update, Apr. 14, 2022, available at: https://thedocs.worldbank.org/en/doc/de816119d04a4e82a9c380bfd02dbc3a-0280012022/original/mpo-sm22-yemen-yem-kcm.pdf (last visited Sept. 1, 2022).

⁴⁴ Id.

⁴⁵ Id.

⁴⁶ Saudi-led attacks devastated Yemen's civilian infrastructure, dramatically worsening the humanitarian crisis, The Washington Post, Feb. 22, 2021, available at: https://www.washingtonpost.com/politics/2021/02/22/saudi-led-attacks-devastated-yemens-civilian-infrastructure-dramatically-worsening-humanitarian-crisis/ (last visited Sept. 6, 2022).

⁴⁷ Yemen: Civil War and Regional Intervention, Congressional Research Service, Sept. 17, 2019, available at: https://fas.org/sgp/crs/mideast/R43960.pdf (last visited Sept. 6, 2022).

⁴⁸ Republic of Yemen, World Bank Economic Update, Apr. 14, 2022, available at: https://thedocs.worldbank.org/en/doc/de816119d04a4e82a9c380bfd02dbc3a-0280012022/original/mpo-sm22-yemen-yem-kcm.pdf (last visited Sept. 1, 2022).

In summary, the ongoing armed conflict and stream of challenges that flow from it have not been resolved. Civilians continue to be killed and displacement is substantial and widespread. Deteriorating humanitarian conditions and protracted internal conflict continue to adversely affect Yemen's civilian population.

Based upon this review and after consultation with appropriate U.S. Government agencies, the Secretary has determined that:

• The conditions supporting Yemen's designation for TPS continue to be met. See INA sec. 244(b)(3)(A) and (C), 8 U.S.C. 1254a(b)(3)(A) and (C).

• There continues to be an ongoing armed conflict in Yemen and, due to such conflict, requiring the return to Yemen of Yemeni nationals (or individuals having no nationality who last habitually resided in Yemen) would pose a serious threat to their personal safety. See INA sec. 244(b)(1)(A), 8 U.S.C. 1254a(b)(1)(A).

• There continue to be extraordinary and temporary conditions in Yemen that prevent Yemeni nationals (or individuals having no nationality who last habitually resided in Yemen) from returning to Yemen in safety, and it is not contrary to the national interest of the United States to permit Yemeni TPS beneficiaries to remain in the United States temporarily. See INA sec. 244(b)(1)(C), 8 U.S.C. 1254a(b)(1)(C).

• The designation of Yemen for TPS should be extended for an 18-month period, from March 4, 2023, through September 3, 2024. See INA sec. 244(b)(3)(C), 8 U.S.C. 1254a(b)(3)(C).

• Due to the conditions described above, Yemen should be simultaneously redesignated for TPS effective March 4, 2023, through September 3, 2024. See INA sec. 244(b)(1)(A) and (C) and (b)(2), 8 U.S.C. 1254a(b)(1)(A) and (C) and (b)(2).

• For the redesignation, the Secretary has determined that TPS applicants must demonstrate that they have continuously resided in the United States since December 29, 2022.

• Initial TPS applicants under the redesignation must demonstrate that they have been continuously physically present in the United States since March 4, 2023, the effective date of the redesignation of Yemen for TPS.

• It is estimated that approximately 1,200 individuals may become newly eligible for TPS under the redesignation of Yemen. This population includes Yemeni nationals who are in the United States in nonimmigrant status or without immigration status.

Notice of the Designation of Yemen for TPS

By the authority vested in me as Secretary under INA sec. 244, 8 U.S.C. 1254a, I have determined, after consultation with the appropriate U.S. Government agencies, the statutory conditions supporting Yemen's designation for TPS on the basis of ongoing armed conflict and extraordinary and temporary conditions are met. See INA sec. 244(b)(1)(A), 8 U.S.C. 1254a(b)(1)(A) and INA sec. 244(b)(1)(C), 8 U.S.C. 1254a(b)(1)(C). On the basis of this determination, I am simultaneously extending the existing designation of Yemen for TPS for 18 months, from March 4, 2023, through September 3, 2024, and redesignating Yemen for TPS for the same 18-month period. See INA sec. 244(b)(1)(A), (b)(1)(C) and (b)(2); 8 U.S.C. 1254a(b)(1)(A), (b)(1)(C), and (b)(2).

Alejandro N. Mayorkas,
Secretary, U.S. Department of Homeland Security.

Eligibility and Employment Authorization for TPS

Required Application Forms and Application Fees To Register for TPS

To register for TPS based on the designation of Yemen, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are authorized to work in the United States and are eligible for an EAD which proves their employment authorization. You are not required to submit Form I-765, Application for Employment Authorization, or have an EAD, but see below for more information if you want an EAD to use as proof that you can work in the United States.

Individuals who have a Yemen TPS application (Form I-821) that was still pending as of January 3, 2023 do not need to file the application again. If USCIS approves an individual's Form I-821, USCIS will grant the individual TPS through September 3, 2024.

For more information on the application forms and fees for TPS, please visit the USCIS TPS web page at https://www.uscis.gov/tps. Fees for the Form I-821, the Form I-765, and biometric services are also described in 8 CFR 106.

How can TPS beneficiaries obtain an Employment Authorization Document (EAD)?

Every employee must provide their employer with documentation showing that they have the legal right to work in the United States. TPS beneficiaries are eligible to obtain an EAD, which proves their legal right to work. Those who want to obtain an EAD must file a Form I-765 and pay the Form I-765 fee (or request a fee waiver, which you may submit on Form I-912, Request for Fee Waiver). TPS applicants may file this form along with their TPS application, or at a later date, provided their TPS application is still pending or has been approved. Beneficiaries with a Yemeni TPS-related Form I-765 that was still pending as of January 3, 2023 do not need to file the application again. If USCIS approves a pending TPS-related Form I-765, USCIS will issue the individual a new EAD that will be valid through September 3, 2024.

Refiling an Initial TPS Registration Application After Receiving a Denial of a Fee Waiver Request

If you receive a denial of a fee waiver request, you must refile your Form I-821 for TPS along with the required fees during the registration period, which ends on September 3, 2024. Meanwhile, Form I-765 EAD applications with fee payment may be filed at the same time as your TPS application or at any later date you decide you want to request an EAD during the designation period, which ends on September 3, 2024.

Refiling a TPS Re-Registration Application After Receiving Notice That the Fee Waiver Request Was Not Granted

You should file as soon as possible so USCIS can process your application and issue any EAD promptly, if you requested one. Properly filing early will also give you time to refile your application before the deadline, if USCIS does not grant your fee waiver request. If you receive a notice that USCIS did not grant your fee waiver request, and you are unable to refile by the re-registration deadline, you may still refile your Form I-821 with the biometric services fee. USCIS will review this situation to determine whether you established good cause for late TPS re-registration. However, if possible, we urge you to refile within 45 days of the date on any USCIS notice that we did not grant you a fee waiver. See INA sec. 244(c)(3)(C); 8 U.S.C. 1254a(c)(3)(C); 8 CFR 244.17(b). For more information on good cause for late re-registration, visit the USCIS TPS web page at https://www.uscis.gov/tps. If USCIS does not grant your fee waiver request, you may also refile your Form I-765 with the fee either with your Form I-821 or at a later time, if you choose.

Note: A re-registering TPS beneficiary age 14 and older must pay the biometric services fee (but not the Form I-821 filing fee), or request a fee waiver, when filing a TPS re-registration application. However, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometric services fee, if applicable (or request a fee waiver).

Filing Information

USCIS offers the option to applicants for TPS under Yemen's designation to file Form I-821 and related requests for EADs online or by mail. When filing a TPS application, applicants can also request an EAD by submitting a completed Form I-765 with their Form I-821.

Online filing: Form I-821 and I-765 are available for concurrent filing online.⁴⁹ To file these forms online, you must first create a USCIS online account.⁵⁰

⁴⁹ Find information about online filing at “Forms Available to File Online,” https://www.uscis.gov/file-online/forms-available-to-file-online.

⁵⁰ https://myaccount.uscis.gov/users/sign_up.

Mail filing: Mail your application for TPS to the proper address in Table 1.

Table 1-Mailing Addresses

Mail your completed Form I-821, Application for Temporary Protected Status and Form I-765, Application for Employment Authorization, Form I-912, Request for Fee Waiver, if applicable, and supporting documentation to the proper address in Table 1.

Table 1—Mailing Addresses
If. . . | Mail to. . .
You are using the U.S. Postal Service (USPS) | USCIS, Attn: TPS Yemen, P.O. Box 6943, Chicago, IL 60680-6943.
You are using FedEx, UPS, or DHL | USCIS, Attn: TPS Yemen (Box 6943), 131 S Dearborn St., 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Yemen.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821.
Filing Form I-131 based on a pending or approved Form I-821, and you are using FedEx, UPS, or DHL: | USCIS, Attn: I-131 TPS, 2501 S State Hwy. 121 Business, Ste. 400, Lewisville, TX 75067.
You must include a copy of the receipt notice (Form I-797 or I-797C) showing we accepted or approved your Form I-821.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through March 3, 2024, using this Federal Register notice?

Yes. Regardless of your country of birth, provided that you currently have a Yemen TPS-based EAD that has the notation A-12 or C-19 under Category and a “Card Expires” date of March 3, 2023, or September 3, 2021, this Federal Register notice automatically extends your EAD through March 3, 2024. Although this Federal Register notice automatically extends your EAD through March 3, 2024, you must timely re-register for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A-12 or C-19 under Category and has a “Card Expires” date of March 3, 2023 or September 3, 2021, it has been extended automatically by virtue of this Federal Register notice and you may choose to present your EAD to your employer as proof of identity and employment eligibility for Form I-9 through March 3, 2024, unless your TPS has been withdrawn or your request for TPS has been denied. Your country of birth notated on the EAD does not have to reflect the TPS designated country of Yemen for you to be eligible for this extension.

What documentation may I present to my employer for Form I-9 if I am already employed but my current TPS-related EAD is set to expire?

Even though we have automatically extended your EAD, your employer is required by law to ask you about your continued employment authorization. Your employer may need to re-inspect your automatically extended EAD to check the “Card Expires” date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through March 3, 2024, but you are not required to do so. The last day of the automatic EAD extension is March 3, 2024. Before you start work on March 4, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through September 3, 2024, then you must file Form I-765, Application for Employment Authorization, and pay the associated fee (unless USCIS grants your fee waiver request).

Can my employer require that I provide any other documentation such as evidence of my status or proof of my Yemeni citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Yemeni citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before March 4, 2024:

1. For Section 1, you should:

a. Check “An alien authorized to work until” and enter March 3, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of March 3, 2023 or September 3, 2021.

b. Write in the document title;

c. Enter the issuing authority;

d. Provide the document number; and

e. Write March 3, 2024 as the expiration date.

Before the start of work on March 4, 2024, employers must reverify the employee's employment authorization on Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A-12 or C-19 and has a “Card Expires” date of March 3, 2023 or September 3, 2021. Your employer may not rely on the country of birth listed on the card to determine whether you are eligible for this extension.

If your employer determines that USCIS has automatically extended your EAD, your employer should update Section 2 of your previously completed Form I-9 as follows:

1. Write EAD EXT and March 3, 2024 as the last day of the automatic extension in the Additional Information field; and

2. Initial and date the correction.

Note: This is not considered a reverification. Employers do not reverify the employee until either the automatic extension has ended, or the employee presents a new document to show continued employment authorization, whichever is sooner. By March 4, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter March 3, 2024 as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on March 4, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/crt/immigrant-and-employee-rights-section and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797 or Form I-797C, Notice of Action reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Yemen;

• Your Form I-94, Arrival/Departure Record;

• Your Form I-797C, Notice of Action, reflecting approval of your Form I-765; or

• Form I-797 or Form I-797C, Notice of Action, reflecting approval or receipt of a past or current Form I-821.

Check with the government agency requesting documentation regarding which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2022-28283 Filed 12-30-22; 8:45 am]

BILLING CODE 9111-97-P